DEPARTMENT OF COMMERCE

National Oceanic and Atmospheric Administration

RIN 0648-XG557

Fisheries of the Exclusive Economic Zone Off Alaska; Application for an Exempted Fishing Permit

AGENCY: National Marine Fisheries Service (NMFS), National Oceanic and Atmospheric Administration (NOAA), Commerce.

ACTION: Notice; receipt of application for exempted fishing permit.

SUMMARY: This notice announces receipt of an exempted fishing permit (EFP) application from Mr. Cory Lescher and Dr. Bradley Harris, Alaska Pacific University. If granted, this EFP would allow up to five Amendment 80 vessels in the Bering Sea and Aleutian Islands (BSAI) management area yellowfin and rock sole fisheries to retain red king crab (RKC; Paralithodes camtschaticus) bycatch on board for periods of no more than 72 hours during the 2019 BSAI flatfish fisheries' “A” season. Two concurrent studies would be conducted under this EFP. A whole-haul RKC census study would provide a comparison of whole-haul census of RKC to haul-level estimates of RKC generated from NMFS-certified observer (observer) sampling to determine the ability of current prohibited species catch (PSC) rate estimations to accurately account for RKC PSC in these fisheries. Then, an at-sea viability study would examine factors that influence RKC PSC mortality and survival. The objective of the EFP application is to provide improved understanding of RKC PSC mortality, such as shell crushing, and variables that affect it. This proposed project has the potential to promote the objectives of the Magnuson-Stevens Fishery Conservation and Management Act.

DATES: Comments on this EFP application must be submitted to NMFS on or before December 11, 2018. The North Pacific Fishery Management Council (Council) will consider the application at its meeting from December 3, 2018, through December 11, 2018, in Anchorage, AK.

ADDRESSES: The Council meeting will be held at the Anchorage Hilton Hotel, 500 W 3rd Ave., Anchorage, AK 99501. The agenda for the Council meeting is available at http://www.npfmc.org. In addition to submitting comments at the Council meeting, you may submit comments on this document, identified by NOAA-NMFS-2018-0120, by any of the following methods:

• Federal e-Rulemaking Portal. Go to www.regulations.gov/#!docketDetail;D=NOAA-NMFS-2018-0120, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered. All comments received are a part of the public record and will generally be posted for public viewing on www.regulations.gov without change. All personal identifying information (e.g., name, address) submitted voluntarily by the sender will be publicly accessible. NMFS will accept anonymous comments (enter “N/A” in the required fields if you wish to remain anonymous).

Electronic copies of the EFP application and the basis for a categorical exclusion under the National Environmental Policy Act are available from the Alaska Region, NMFS website at http://alaskafisheries.noaa.gov/.

FOR FURTHER INFORMATION CONTACT: Bridget Mansfield, 907-586-7228.

SUPPLEMENTARY INFORMATION: NMFS manages the domestic groundfish fisheries in the BSAI under the Fishery Management Plan for Groundfish of the BSAI Management Area (FMP), which the Council prepared under the Magnuson-Stevens Fishery Conservation and Management Act. Regulations governing the BSAI groundfish fisheries appear at 50 CFR parts 600 and 679. The FMP and the EFP implementing regulations at § 600.745(b) and § 679.6 allow the NMFS Regional Administrator to authorize, for limited experimental purposes, fishing that would otherwise be prohibited. Procedures for issuing EFPs are contained in the implementing regulations.

Background

PSC in the North Pacific groundfish trawl gear fisheries is managed under limits that can trigger closures of management areas or target fisheries. Catch, including non-target species and PSC, is estimated in part by extrapolating fishery observer samples from individual hauls up to the trip level. Non-pollock fisheries—that is, vessels not engaged in directed pollock fishing—managed under fishing cooperatives use estimates derived from observer sampling to account for PSC, by number rather than weight for crab species or by weight only for other PSC, such as halibut or salmon. Amendment 80, implemented in 2008, allocates BSAI yellowfin sole, flathead sole, rock sole, Atka mackerel, and Aleutian Islands Pacific ocean perch to the head and gut trawl catcher processor sector, and allows qualified vessels to form cooperatives. Amendment 80 cooperatives track individual vessel catch against cooperative-determined, vessel-specific limits. Cooperatives are ultimately responsible for ensuring that the bycatch allowances they administer, but set by NMFS, are not exceeded. Individual accountability is enforced by cooperatives at the vessel and company level through legal contracts and bycatch agreements among members. In this context, understanding the degree to which current observer sampling practices provide accurate data for accounting of actual bycatch quantities for a fishing haul or trip can help improve cooperative management and support conservation and fishery management objectives overall.

Fishing under this EFP would provide data to investigate the accuracy of current PSC estimation methods for individual hauls, including the degree to which high catch-per-unit-effort groundfish fishing impacts RKC PSC rates. Data from this EFP would also help industry collaborators understand and improve vessel-specific bycatch performance tracking.

Exempted Fishing Permit

On September 20, 2018, Mr. Cory Lescher submitted an application for an EFP to conduct two concurrent studies on incidentally caught RKC on select Amendment 80 trawl vessels targeting yellowfin and rock sole in the BSAI in 2019. The first study (whole-haul census study) would be conducted on up to five vessels and would consist of a series of whole-haul censuses of RKC (census of all RKC in an entire haul) in conjunction with observer sub-sampling of the same haul. Biological samples would also be collected from the RKC, with a handling time of one to two minutes per RKC, before the RKC is released back to the sea. The objectives of this study under the proposed EFP are to:

• Assess the accuracy of current sampling methods,

• collect basic biological data from RKC PSC to resolve data gaps in key characteristics associated with RKC encountered in the yellowfin and rock sole fisheries in the first part of the year, and

• examine how RKC PSC rates are influenced by haul characteristics and environmental variables.

The second study (viability study) conducted under this proposed EFP would require two vessels to hold up to a total of 384 RKC for up to 72 hours each in on-deck, saltwater flow-through tanks to monitor survival of deck-sorted RKC compared to factory-sorted RKC. This study has three objectives under the proposed EFP: First, to examine factors affecting RKC PSC mortality and survival; second, the ability to predict discard mortality using vitality assessments, and third, to assess the feasibility of collecting data on such vitality metrics.

Whole-Haul Census Study

The applicant proposes to conduct the whole-haul census study on up to five vessels in the Amendment 80 yellowfin and rock sole trawl fishery in the Bering Sea from January 20 through April 15, 2019. The participating vessels would be selected on a voluntary basis and would carry an observer as required by regulation. All stages of the whole-haul sampling process would be conducted by a trained “sea sampler” on each participating EFP vessel, who would be required to be a NMFS-certified observer, but who would not act as a NMFS observer during an EFP trip. The sea sampler data collection duties would be separate from those duties of the vessel's NMFS observer and their work would not interfere with or constrain the work of the NMFS observer.

The applicant's proposed sampling for the whole-haul census would consist of the following protocols. Sea samplers would conduct a whole-haul count for RKC for every haul during a trip. To achieve this, for each haul the sea sampler would instruct designated crew to remove all RKC from the sorting belt downstream of the observer sampling station. The designated crew would place such RKC in a designated tote labeled with the vessel haul number, keeping all haul-specific RKC together. The EFP sampling would occur after observer sampling and would not interfere with the observer's sampling duties or vessel operations. The sea sampler would sort the RKC from the tote, returning all non-RKC to the discard belt for immediate discard, and would collect and record RKC-specific biological data from each RKC and return it immediately to the discard belt for immediate discard to the sea. Biological data collected would include sex, carapace length, shell condition, externally visible physical injuries, vitality metrics, and for females, clutch fullness and egg condition. Vitality metrics include presence and absence of pre-determined injuries, and reflex and behavior responses, including leg flare, leg retraction, chela closure, eye retraction, and mouth closure. The sampling process would be expected to require less than 2 minutes and would have no impact on the probability of survival of the sampled RKC. The sampling protocol outlined above follow established Donaldson and Byersdorfer methods as described in the EFP application (see ADDRESSES).

Viability Study

The applicant proposes to conduct the RKC viability study on two vessels in the Amendment 80 yellowfin and rock sole trawl fisheries in the Bering Sea from January 20 through April 15, 2019. As with the whole-haul study proposed under this EFP application, the participating vessels in the RKC viability study would be selected on a voluntary basis and would carry a NMFS-certified fishery observer as required by regulation.

The applicant's proposed sampling for the RKC viability study would consist of the following general protocols. For further details, please consult the EFP application available at (see ADDRESSES). The viability study would commence at the beginning of a fishing trip. During a predetermined haul, up to 32 incidentally caught RKC would be selected from the catch on deck or in the factory. The on-deck RKC collection would coincide with halibut deck sorting authorized under the halibut deck sorting EFP #2018-01 to allow the assessment of RKC collected from both on-deck and the factory point of discard without impeding fishing operations. On-deck collection would be conducted independent of, and would not impact, halibut deck sorting activities or observer data collections under the halibut deck sorting EFP. RKC collected on deck would be removed from the catch prior to observer sampling. The RKC EFP sea sampler would collect RKC counts and weights from pre-sorted RKC from selected hauls and provide that data to the vessel's NMFS observer. RKC collected in the factory for this viability study would be removed from the conveyor belt downstream of the observer sampling station following the protocols described for the whole-haul study.

A vitality test, as described above under the heading Whole-Haul Census Study, would be used to select only live RKC, including RKCs with a range of initial impairments and levels of vitality for the holding trials. Each RKC would be labeled with a uniquely numbered tag. Carapace length, sex shell condition, and vitality would be collected and recorded for each RKC at the time of collection. Each assessment would last approximately 1 to 2 minutes per RKC, after which they would immediately be placed in one of several flow-through seawater tanks on deck. Each tank would be divided into four separate sections that would hold two RKC each. The sea sampler would record water temperature and dissolved oxygen from each of the seawater tanks daily and continue monitoring individual RKC vitality every 2, 4, 6, 12, 24, 48, and 72 hours. RKC would be monitored following methods described in the EFP application (see ADDRESSES). Details of any mortality would be recorded, and dead RKC would be removed and discarded. Live RKC would be released 72 hours after collection. Once all RKC are released, the tank would be flushed with seawater and refilled with eight new RKC from a subsequent tow. The 72-hour period for holding RKC would provide a short window to observe for discard mortality, yet allow for adequate sample size. Metrics that may be used to predict RKC mortality would be collected for future analysis. Such metrics include, but are not limited to, fishing effort information (e.g., length of tow, tow depth, bottom temperature, and total catch size), and RKC time out of water.

Exemptions

RKC is a prohibited species in the groundfish fishery, requiring immediate return to the sea with a minimum of injury. This proposed action would exempt the participating vessel, for RKC only, from the requirement, at § 679.21(b)(2)(ii), to return all prohibited species, or parts thereof, to the sea immediately, with a minimum of injury, regardless of its condition. Because some RKC would be pre-sorted before observer sampling under this proposed action, permit holders, vessel owners, and operators fishing under this permit would be exempt from § 679.7(g)(2) that otherwise prohibits biasing the observer's sampling procedure by pre-sorting RKC catch. The participating vessels would be allowed to account for the number of RKC caught through sampling methods described above. All other § 679.7(g)(2) provisions would continue to apply to all other fishing during an EFP trip.

Sorting of PSC species other than RKC before observers sample the catch onboard the vessels would continue to be prohibited.

Further, owners and operators of Amendment 80 vessels participating in this EFP are exempt from the requirement at § 679.93(c)(1), which requires that (1) all catch by vessels participating in the Amendment 80 program are weighed on a NMFS-approved scale, (2) each haul must be weighed separately, (3) all catch must be made available for sampling by a NMFS-certified observer, and (4) no sorting of catch may take place prior to weighing. Owners and operators of all other vessels participating in this EFP are exempt from regulations at § 679.28(b) that require that all catch of RKC must be weighed on a NMFS-approved scale and made available at a single location. This exemption is necessary to allow sea samplers to account for RKC sorted on deck and transferred to tanks on deck for the viability study prior to observer sampling.

Permit Conditions, Review, and Effects

Under the EFP, participating vessels would be limited to the Amendment 80 groundfish allocations under the 2019 harvest specifications (available from the Alaska Region, NMFS website at http://alaskafisheries.noaa.gov/). No additional target or PSC amounts beyond those authorized through regulation would be needed for this EFP; all groundfish catch will accrue against the Amendment 80 sector's yellowfin and rock sole catch and PSC allowances. EFP-authorized fishing activities would not be expected to change the nature or duration of the flatfish trawl fishery or the amount or species of fish caught by the participating vessels.

In 2019, Mr. Lescher would be required to submit to NMFS a report of the EFP results after EFP experimental fishing has ended in 2019. For each study, the report would include: Sampling design and methods, number of RKC sampled, fishing and environmental variables collected, RKC handling and mortalities, analytical results, and the total catch of each groundfish species and RKC in metric tons. The report would be made available to the public.

The fieldwork that would be conducted under this EFP is not expected to have a significant impact on the human environment as detailed in the categorical exclusion prepared for this action (see ADDRESSES).

In accordance with § 679.6, NMFS has determined that the application warrants further consideration and has forwarded the application to the Council to initiate consultation. The Council is scheduled to consider the EFP application during its December 2018 meeting, which will be held at the Hilton Hotel, Anchorage, AK. The EFP application will also be provided to the Council's Scientific and Statistical Committee for review at the December Council meeting. The applicant has been invited to appear in support of the application.

Public Comments

Interested persons may comment on the application at the December 2018 Council meeting during public testimony or until December 11, 2018. Information regarding the meeting is available at the Council's website at http://www.npfmc.org. Copies of the application and categorical exclusion are available for review from NMFS (see ADDRESSES).

Comments also may be submitted directly to NMFS (see ADDRESSES) by the end of the comment period (see DATES).

Authority: 16 U.S.C. 1801 et seq.

Dated: November 16, 2018.
Karen H. Abrams,
Acting Director, Office of Sustainable Fisheries, National Marine Fisheries Service.

[FR Doc. 2018-25416 Filed 11-23-18; 8:45 am]

BILLING CODE 3510-22-P